DEPARTMENT OF AGRICULTURE

Public Meeting of the Black Hills National Forest Advisory Board Date Charge

AGENCY: Forest Service, USDA.

ACTION: Notice of meeting date change.

SUMMARY: The Black Hills National Forest Advisory Board (NFAB) has changed its January meeting date to Monday, January 10, 2005 to ensure a quorum is present. The agenda includes member consideration of the Black Hills National Forest 1997 Land and Resource Management Plan (LRMP) Phase II Amendment Draft Environmental Impact Statement so as to make recommendations to the forest supervisor. The meeting is open, and the public may attend any part of the meeting.

ADDRESSES: SDSU West River Ag Center, 1905 Plaza Boulevard, Rapid City, SD.

FOR FURTHER INFORMATION CONTACT: Frank Carroll, Black Hills National Forest, 25041 North Highway 16, Custer, SD 57730, (605) 673-9200.

Dated: December 13, 2004.
Brad Exton,
Acting Forest Supervisor.

[FR Doc. 04-27925 Filed 12-21-04; 8:45 am]

BILLING CODE 3410-11-M